DEPARTMENT OF ENERGY

Federal Energy Regulatory Commission

[Docket No. CP15-558-000]

PennEast Pipeline Company, LLC; Notice of Motion

On June 15, 2016, the New Jersey Conservation Foundation and Stony Brook-Millstone Watershed Association (Movants), filed with the Federal Energy Regulatory Commission (Commission) a pleading styled as a Rule 206 Complaint and Rule 212 Motion against PennEast Pipeline Company, LLC (PennEast), alleging that PennEast's application for a Certificate of Public Convenience and Necessity does not contain substantial evidence of public benefit, as required by the Natural Gas Act.¹ The pleading further requests the Commission initiate an evidentiary hearing to “garner substantial evidence” and develop the record upon which the Commission would rely in making its “ultimate determination regarding PennEast's certificate of public convenience and necessity.”

¹ 15 U.S.C. 717f(e) (2012).

While styled as a complaint under Rule 206, the pleading, filed in the PennEast certificate proceeding, Docket No. CP15-558-000, seeks resolution of the issue pending before the Commission in that proceeding, i.e., whether PennEast's request for a certificate of convenience and necessity is supported by substantial evidence. Accordingly, action on the Movants' request for an evidentiary hearing, as well as consideration of the merits of the Movants' allegations, will take place in that forum.

Dated: July 27, 2016.
Kimberly D. Bose,
Secretary.

[FR Doc. 2016-18578 Filed 8-4-16; 8:45 am]

BILLING CODE 6717-01-P